SMALL BUSINESS ADMINISTRATION

[Disaster Declaration #11525 and #11526]

Missouri Disaster Number MO-00033

AGENCY: U.S. Small Business Administration.

ACTION: Amendment 1.

SUMMARY: This is an amendment of the Presidential declaration of a major disaster for the State of Missouri (FEMA-1809-DR), dated 11/13/2008.

Incident: Severe Storms, Flooding, and a Tornado.

Incident Period: 09/11/2008 through 09/24/2008.

EFFECTIVE DATE: 12/02/2008.

Physical Loan Application Deadline Date: 01/12/2009.

EIDL Loan Application Deadline Date: 08/13/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Missouri, dated 11/13/2008 is hereby amended to include the following areas as adversely affected by the disaster:

Primary Counties: (Physical Damage and Economic Injury Loans): Howell, Jefferson

Contiguous Counties: (Economic Injury Loans Only):

Missouri: Oregon, Saint Francois, Sainte Genevieve, Washington

Arkansas: Fulton

All other information in the original declaration remains unchanged.

(Catalog of Federal Domestic Assistance Numbers 59002 and 59008)

Herbert L. Mitchell,
Associate Administrator for Disaster Assistance.

[FR Doc. E8-29108 Filed 12-8-08; 8:45 am]

BILLING CODE 8025-01-P